DEPARTMENT OF COMMERCE

International Trade Administration

U.S. Section Membership Opportunities for the United States-India CEO Forum

AGENCY: International Trade Administration (ITA), Department of Commerce.

ACTION: Notice.

The Department of Commerce, ITA, is amending the Notice published at 87 FR 9318 (February 18, 2022), regarding the dates for submission of applications for appointment, or reappointment, to the U.S. Section of the U.S.-India CEO Forum. ITA will accept applications on a rolling basis for membership on the U.S. Section of the Forum for terms that will begin upon appointment and will expire on December 31, 2024. Immediate consideration will now be given to applications received by April 6, 2022. ITA will accept nominations under this notice on an on-going basis during the charter term to fill vacancies as they arise.

ADDRESSES: For inquiries and an application, please contact Noor Sclafani, International Trade Specialist, Office of South Asia, U.S. Department of Commerce, by email at noor.sclafani@trade.gov.

FOR FURTHER INFORMATION CONTACT: Noor Sclafani, International Trade Specialist, Office of South Asia, U.S. Department of Commerce, telephone: (202) 823-1840.

SUPPLEMENTARY INFORMATION: Please refer to Notice published at 87 FR 9318 (February 18, 2022).

Dated: March 18, 2022.
Jed Diemond,
Deputy Director, Office of South Asia.

[FR Doc. 2022-06164 Filed 3-22-22; 8:45 am]

BILLING CODE 3510-HE-P